DEPARTMENT OF HEALTH AND HUMAN SERVICES

[Document Identifier: 4040-0010; 60-day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to ed.calimag@hhs.gov, or call the Reports Clearance Office on (202) 690-6162. Written comments and recommendations for the proposed information collections must be directed to the OS Paperwork Clearance Officer at the above email address within 60-days.

Proposed Project

SF-424 Project/Performance Site Location(s)—OMB No. 4040-0010.

Office: Grants.gov.

Abstract

The SF-424 Project/Performance Site Location(s) form collection is an OMB approved collection (4040-0010). This form is utilized by 26 Federal grant-making agencies. The 4040-0010 collection expired on August 31, 2011. The Grants.gov Program Management Office requests a three-year clearance of this form. No changes are being made to this form.

SF-424 collections currently in use do not collect all of the FFATA required data elements from applicants. The SF-424 Project/Performance Site Location(s) form is a part of Grants.gov's mission to reduce duplication of similar or identical forms and data sets, establish consistency in data collection processes across Federal agencies, and comply with the requirements of FFATA. This information collection also implements streamlining and simplification provisions of PL 106-107 and provides support for the President's Management Agenda to allow applicants for Federal grants to apply for grant funds online. A cross-agency work group developed the proposed SF-424 Project/Performance Site Location(s) form and data set that will serve as a common form for various grant programs.

This form will be mandatory for all of the 4040 collections except for 4040-0005 (Individual). The form includes the fields for the following FFATA required data elements: the primary location of performance and the unique identifier (DUNS number) of the organization performing the project. The SF-424 Individual (4040-0005) does not require a DUNS number as individual applicants are not required to have DUNS numbers.

Estimated Annualized Burden Table
Agency | Number of respondents | Number of responses per respondent | Total responses | Average burden per response in hours | Total burden hours
Total | 120,722 | 1 | 120,722 | 30/60 | 60,361

Keith A. Tucker,
Office of the Secretary, Paperwork Reduction Act Clearance Officer.

[FR Doc. 2011-31848 Filed 12-12-11; 8:45 am]

BILLING CODE 4151-AE-P